CHEMICAL SAFETY AND HAZARD INVESTIGATION BOARD

40 CFR Part 1600

RIN 3301-AA02

Internal Governance

AGENCY: U.S. Chemical Safety and Hazard Investigation Board.

ACTION: Final rule.

SUMMARY: The U.S. Chemical Safety and Hazard Investigation Board (“CSB”) is amending regulations relating to its CSB's internal organization, management, and operations. These amendments make grammatical and stylistic updates to current CSB internal regulations in order to improve their function and better reflect the CSB's mission. The amendments also clarify procedures involving quorum and public meetings. Finally, the amendments update the current address of the CSB.

DATES: This rule is effective January 26, 2026.

FOR FURTHER INFORMATION CONTACT: Steven Messer, Acting General Counsel, 202.815.8019, Steven.Messer@csb.gov.

SUPPLEMENTARY INFORMATION: The CSB is authorized by 42 U.S.C. 7412(r)(6)(M) to establish such procedural and administrative rules as are necessary to the exercise of its functions and duties. Pursuant to this authority, on November 20, 2003, through 68 FR 65403, the CSB issued regulations governing its internal operations and structure. On June 2, 2023, through 88 FR 36256, the CSB published amendments to the regulations. The CSB now amends these internal regulations to improve their function, better reflect the CSB's mission, clarify quorum and public meeting requirements, update information about the CSB, and correct grammatical and stylistic issues.

As the CSB is nonregulatory in nature, the word “nonregulatory” is added to 40 CFR 1600.1 to describe the CSB and its core mission. The list of offices within the CSB under 40 CFR 1600.2 is consolidated into paragraph form and grammatical changes are made in order to improve the readability of this section. Under 40 CFR 1600.3 (c), “safety videos and other safety products” has been added to accurately reflect the types of safety products produced by the CSB. Under 40 CFR 1600.4(a), the word “financial” has been replaced with the more general word “other” to describe the work performed by the CSB's different offices. Additional language is added to 40 CFR 1600.5(a) to clarify what constitutes a quorum of the Board based on how many Board Members are in office at one time. 40 CFR 1600.5(b) has been updated to reflect that the Board must consider a calendared notation item at a public meeting in 60 days, not 90. 40 CFR 1600.5(c) is amended to allow for public meetings to be held in-person or virtually, which accurately reflects the CSB's current practices. 40 CFR 1600.5(c)(1) is reorganized to provide the same information that is currently provided in bullets (i) and (ii) concerning consideration and vote on any notation items calendared, but in simpler paragraph form. 40 CFR 1600.5(c)(2) is modified to eliminate the two-day requirement for publishing public meeting agenda information. Finally, 40 CFR 1600.6 deletes the office location of the CSB, as the CSB does not currently occupy a physical office, but may in the future.

This rule is not a significant rule for purposes of Executive Order 12866 and has not been reviewed by the Office of Management and Budget. As required by the Regulatory Flexibility Act, the CSB certifies that these regulatory amendments will not have a significant impact on small business entities.

List of Subjects in 40 CFR Part 1600

Organization and functions (Government agencies).

For the reasons stated in the preamble, the CSB amends 40 CFR part 1600 as follows:

PART 1600—ORGANIZATION AND FUNCTIONS OF THE CHEMICAL SAFETY AND HAZARD INVESTIGATION BOARD

1. The authority citation continues to read as follows:

Authority: 5 U.S.C. 301, 552(a)(1); 42 U.S.C. 7412(r)(6)(N).

2. Revise § 1600.1 to read as follows:

§ 1600.1 Purpose.

This part describes the organization, functions, and operation of the Chemical Safety and Hazard Investigation Board (CSB). The CSB is an independent nonregulatory agency of the United States created by the Clean Air Act Amendments of 1990 [Pub. L. 101-549, 104 Stat. 2399, codified at 42 U.S.C. 7412(r)(6) et seq.]. Information about the CSB is available from its website, http://www.csb.gov.

3. Amend § 1600.2 by revising paragraph (b) to read as follows:

§ 1600.2 Organization.

* * * * *

(b) The CSB's staff is comprised of the Office of Administration, the Office of Investigations and Recommendations, the Office of General Counsel and such other administrative units as established by the CSB Board.

4. Amend § 1600.3 by revising paragraphs (b) and (c) to read as follows:

§ 1600.3 Functions.

* * * * *

(b) The CSB makes safety recommendations to Federal, State, and local agencies, including the Environmental Protection Agency and the Occupational Safety and Health Administration, and private organizations to reduce the likelihood of recurrences of chemical incidents. The CSB initiates and conducts safety studies and special investigations on matters pertaining to chemical safety.

(c) The CSB issues reports pursuant to its duties to determine the cause or probable cause or causes of chemical incidents and to report the facts, conditions, and circumstances relating to such incidents; and issues and makes available to the public, safety recommendations, safety studies, reports of special investigations, safety videos, and other safety products.

5. Revise § 1600.4 to read as follows:

§ 1600.4 Operation.

In exercising its functions, duties, and responsibilities, the CSB utilizes the CSB's staff, consisting of specialized offices performing investigative, administrative, legal, and other work for the Board.

6. Revise § 1600.5 to read as follows:

§ 1600.5 Quorum and voting requirements.

(a) Quorum requirements. A quorum of the Board for the transaction of business shall consist of three Members; provided, however, that if the number of Board Members in office is fewer than three, a quorum shall consist of the number of Members in Office, subject to the limitations on the authority of a single Member Board set forth in this section and in Board Orders adopted by the Board; and provided further that on any matter of business as to which the number of Members in office, minus the number of Members who have disqualified themselves from consideration of such matter is two, those two Members shall constitute a quorum for purposes of such matter; and provided further that on any matter of business as to which the number of Members in office, minus the number of Members who have disqualified themselves from consideration of such matter is only one, that one member shall not constitute a quorum for purposes of such matter. Once a quorum is constituted, a simple majority of voting Members is required to approve an item of the Board's business, subject to the limitations on the authority of a single-Member Board set forth in this section and in Board Orders adopted by the Board.

(1) A tie vote results in no action. If the Board consists of only a single Member (whether the Chairperson or another Member), that single Member may not transact Board business or take any action that requires approval by the Board, except as provided in Board Orders adopted by the Board. Regulations, rules, and Board Orders of the CSB may be approved, amended, rescinded, or revoked only by a majority vote of the Board. In the event that the Board consists of only a single Member (whether the Chairperson or another Member), that single Member may not approve, amend, rescind, or revoke any regulation, rule, or Board Order of the CSB.

(2) [Reserved]

(b) Voting. The Board votes on items of business in meetings conducted pursuant to the Government in the Sunshine Act. Alternatively, whenever a Member of the Board is of the opinion that joint deliberation among the members of the Board upon any matter at a meeting is unnecessary in light of the nature of the matter, impracticable, or would impede the orderly disposition of agency business, such matter may be disposed of by employing notation voting procedures. A written notation of the vote of each participating

Board member shall be recorded by the General Counsel who shall retain it in the records of the Board. If a Board member votes to calendar a notation item in accordance with applicable Board Orders, the Board must consider the calendared notation item at a public meeting of the Board within 60 days of the date on which the item is calendared. This section does not permit a notation item to be calendared other than as provided in applicable Board Orders. A notation vote to schedule a public meeting or a special meeting may not be calendared. The Chairperson shall add any calendared notation item to the agenda for the next CSB public meeting if one is to occur within 60 days or schedule a special meeting to consider any calendared notation item no later than 60 days from the calendar action. Any disagreement about whether a notation item has been calendared effectively in accordance with applicable Board Orders shall be decided by the Board.

(c) Public meetings and agendas. The Chairperson, or in the absence of a chairperson, a member designated by the Board, shall schedule a minimum of four public meetings per year, which may be in person or virtual.

(1) Agenda. The Chairperson, or in the absence of a chairperson, a member designated by the Board, shall be responsible for preparation of a final meeting agenda. The final agenda may not differ in substance from the items published in the Sunshine Act notice for that meeting. Any member may submit agenda items related to CSB business for consideration at any public meeting in accordance with applicable Board Orders, and the Chairperson shall include such items on the agenda. At a minimum, each public meeting shall include consideration and vote on any notation items calendared since the date of the last public meeting.

(2) Publication of agenda information. The Chairperson shall be responsible for posting information related to any agenda item that is appropriate for public release on the CSB website.

§ 1600.6 [Removed]

7. Remove § 1600.6.

Dated: November 24, 2025.
Steven Messer,
Acting General Counsel.

[FR Doc. 2025-21215 Filed 11-25-25; 8:45 am]

BILLING CODE 6350-01-P